DEPARTMENT OF THE INTERIOR

Bureau of Land Management

[ID074-02-1430-DU 241E]

Idaho; Notice of Intent To Prepare a Land Use Plan Amendment and Environmental Assessment

AGENCY: Bureau of Land Management, Department of Interior.

ACTION: Notice of intent to prepare a land use plan amendment and Environmental Assessment (EA) to provide for a proposed direct land sale.

SUMMARY: Pursuant to 43 CFR 1600, the Bureau of Land Management (BLM) Idaho Falls Field Office is considering an amendment to the Medicine Lodge Resource Management Plan (RMP) to provide for the possible disposal by direct sale of approximately 140 acres of public land in Madison County, Idaho.

DATES: Comments regarding the proposed plan amendment must be received on or before March 4, 2002.

ADDRESSES: Written comments should be sent to Joe Kraayenbrink, Field Manager, Idaho Falls Field Office, 1405 Hollipark Drive, Idaho Falls, Idaho 83401. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Additional information concerning the proposed plan amendment may be obtained by contacting Skip Staffel, Realty Specialist, at the above address or by calling (208) 524-7562.

SUPPLEMENTARY INFORMATION: The following described public land in Madison County, Idaho, will be examined for possible disposal by direct sale under sections 203 and 209 of the Federal Land Policy and Management Act of 1976, 43 U.S.C. 1713 and 1719.

Boise Meridian, Idaho

T. 6 N., R. 38 E.,

Sec. 26, N½SW¼ and SW¼SW¼;

Sec. 27, E½SE¼ (that portion east of the Twin Buttes Road).

The land described above contains 140 acres, more or less.

Upon publication of this notice in the Federal Register, the land described above will be segregated from appropriation under the public land laws, including the mining laws, except for the sale provisions of FLPMA.

An environmental assessment will be completed for this action. If the land is found suitable for disposal, the United States would offer it for direct sale to Madison County at fair market value. This action would provide Madison County with a site for solid waste disposal. The public is invited to provide scoping comments on the issues that should be addressed in the plan amendment and environmental assessment. The following resources will be considered in preparation of the plan amendment: lands, wildlife, recreation, wilderness, range, minerals, cultural resources, watershed/soils, threatened/endangered species, and hazardous materials. Staff specialists representing these resources will make up the planning team. Planning issues will include the same planning criteria originally considered for the Medicine Lodge RMP; however, issues for this amendment are expected to primarily involve the adjustment of land tenure. This action is not expected to be controversial.

No public meetings are scheduled.

Current land use planning information is available at the Idaho Falls BLM office. Office hours are 7:45 a.m. to 4:30 p.m., Monday through Friday except holidays.

Dated: December 17, 2001.
Joe Kraayenbrink,
Field Manager, Idaho Falls Field Office.

[FR Doc. 02-1382 Filed 1-17-02; 8:45 am]

BILLING CODE 4310-84-P